DEPARTMENT OF COMMERCE

Foreign-Trade Zones Board

[Order No. 1231]

Expansion of Foreign-Trade Zone 8, Toldeo, Ohio, Area

Pursuant to its authority under the Foreign-Trade Zones Act of June 18, 1934, as amended (19 U.S.C. 81a-81u), the Foreign-Trade Zones Board (the Board) adopts the following Order:

Whereas, the Toledo-Lucas County Port Authority, grantee of Foreign-Trade Zone 8, submitted an application to the Board for authority to expand FTZ status to a site (462 acres) at the Cedar Point Development Park located in Oregon, Ohio (Site 4), within the Toledo/Sandusky Customs port of entry (FTZ Docket 54-2000; filed 9/19/00; amended 3/4/02);

Whereas, notice inviting public comment was given in the Federal Register (65 FR 58044, 9/27/00) and the application, as amended, has been processed pursuant to the FTZ Act and the Board's regulations; and,

Whereas, the Board adopts the findings and recommendations of the examiner's report, and finds that the requirements of the FTZ Act and Board's regulations are satisfied, and that the proposal, as amended, is in the public interest;

Now, therefore, the Board hereby orders:

The application, as amended, to expand FTZ 8 is approved, subject to the Act and the Board's regulations, including Section 400.28.

Signed at Washington, DC, this 7th day of June 2002.
Faryar Shirzad,
Assistant Secretary of Commerce for Import Administration, Alternate Chairman, Foreign-Trade Zones Board.

[FR Doc. 02-15343 Filed 6-17-02; 8:45 am]

BILLING CODE 3510-DS-P